DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Maryland Department of Transportation

[Waiver Petition Docket Number FRA-2009-0010]

The Maryland Department of Transportation (MTA) seeks a permanent waiver of compliance from 49 CFR 213.245 Vehicle Qualification Testing, as part of its recent purchase of new model MP36PH-3C locomotives for operation by its MARC train service on the National Passenger Railroad Corporation's (Amtrak) Northeast Corridor (NEC) at 100 miles per hour (mph) and three inches cant deficiency.

MTA would like the FRA to allow qualification of these locomotives to occur without using the instrumented wheel-sets (IWS) test specified in § 213.245. MTA has stated that this test is costly and not economically justified, given the long service history of the same truck that is currently in operation with similar locomotives. MTA further explains that the truck used on the MP36PH-3C locomotive has an extensive history of service on the Amtrak NEC with MARC GP39 and GP40 locomotives, and have been successfully tested to 110 mph.

MP36PH-3C's are used by Caltrain, MRCOG, UTA, and SCRRA, although not at FRA Class 6 speeds. MTA argues that the MP36PH-3C locomotive has similar carbody, weight, truck assemblies, and wheel profile as the GO Transit (Toronto) MP40PH-3C locomotive, which has been successfully tested at the Transportation Technology Center, Inc (TTCI) for safe operation up to 103 mph. The MP40PH-3C was approved by Transport Canada and Canadian National Railroad (CN). An important factor here is that in lieu of IWS, TTCI measured wheel/rail forces estimated by NUCARS simulations modeling software and by using wayside measuring systems such as strain gauges on instrumented rails.

MTA proposes to qualify these locomotives on the Amtrak NEC at speeds up to 112 mph by monitoring truck frame lateral accelerations at positions above each of the four axles; and both vertical and lateral accelerations of the carbody on the cab floor and on the floor at the rear end of the locomotive. These will be evaluated against the 49 CFR 213.333 Vehicle Track Interaction Limits. MTA will have NUCARS simulations performed by TTCI for the specific parameters to evaluate wheel-rail forces for speeds and track geometry of the MARC route over the Amtrak NEC.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0010) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on February 23, 2009.
Grady C. Cothen, Jr.,
Deputy Associate Administrator for Safety Standards and Program Development.

[FR Doc. E9-4207 Filed 2-26-09; 8:45 am]

BILLING CODE 4910-06-P